DEPARTMENT OF HOMELAND SECURITY

Federal Emergency Management Agency

44 CFR Part 67

[Docket ID FEMA-2010-0003; Internal Agency Docket No. FEMA-B-1148]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 31, 2011.

ADDRESSES: The corresponding preliminary Flood Insurance Rate Map (FIRM) for the proposed BFEs for each community is available for inspection at the community's map repository. The respective addresses are listed in the table below.

You may submit comments, identified by Docket No. FEMA-B-1148, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Indian River County, Florida, and Incorporated Areas
Collier Creek | Approximately 550 feet upstream of the confluence with South Prong Creek | +4 | +5 | City of Sebastian, Unincorporated Areas of Indian River County.
| Approximately 1,320 feet upstream of Fleming Street | None | +19
FT-1 | Within area of multiple ponding areas bounded by 17th Street Southwest to the north, 27th Avenue Southwest to the west, 21st Street Southwest to the south, and 20th Avenue Southwest to the east | None | +21 | Unincorporated Areas of Indian River County.
Lateral J Tributary 1 | At the confluence with Lateral J | None | +18 | Unincorporated Areas of Indian River County.
| Approximately 1,450 feet upstream of the confluence with Lateral J | None | +20
Lateral J Tributary 1-1 | Just upstream of 18th Place Southwest | None | +18 | Unincorporated Areas of Indian River County.
| Approximately 1,750 feet upstream of 18th Place Southwest | None | +20
Lateral J Tributary 1-2 | At the confluence with Lateral J Tributary 1 | None | +18 | Unincorporated Areas of Indian River County.
| Approximately 1.1 mile upstream of the confluence with Lateral J Tributary 1 | None | +22
ML-1 | Within area of multiple ponding areas bounded by 17th Street Southwest to the north, 43rd Avenue Southwest to the west, 25th Street Southwest to the south, and 27th Avenue Southwest to the east | None | +21 | Unincorporated Areas of Indian River County.
ML-2 | Within area of multiple ponding areas bounded by 17th Street Southwest to the north, 43rd Avenue Southwest to the west, 25th Street Southwest to the south, and 27th Avenue Southwest to the east | None | +22 | Unincorporated Areas of Indian River County.
ML-3 | Within area of multiple ponding areas bounded by 17th Street Southwest to the north, 43rd Avenue Southwest to the west, 25th Street Southwest to the south, and 27th Avenue Southwest to the east | None | +21 | Unincorporated Areas of Indian River County.
ML-4 | Within area of multiple ponding areas bounded by 17th Street Southwest to the north, 43rd Avenue Southwest to the west, 25th Street Southwest to the south, and 27th Avenue Southwest to the east | None | +21 | Unincorporated Areas of Indian River County.
ML-5 | Within area of multiple ponding areas bounded by 17th Street Southwest to the north, 43rd Avenue Southwest to the west, 25th Street Southwest to the south, and 27th Avenue Southwest to the east | None | +21 | Unincorporated Areas of Indian River County.
ML-6 | Within area of multiple ponding areas bounded by 17th Street Southwest to the north, 43rd Avenue Southwest to the west, 25th Street Southwest to the south, and 27th Avenue Southwest to the east | None | +20 | Unincorporated Areas of Indian River County.
ML-7 | Within area of multiple ponding areas bounded by 17th Street Southwest to the north, 43rd Avenue Southwest to the west, 25th Street Southwest to the south, and 27th Avenue Southwest to the east | None | +21 | Unincorporated Areas of Indian River County.
ML-8 | Within area of multiple ponding areas bounded by 17th Street Southwest to the north, 43rd Avenue Southwest to the west, 25th Street Southwest to the south, and 27th Avenue Southwest to the east | None | +20 | Unincorporated Areas of Indian River County.
ML-9 | Within area of multiple ponding areas bounded by 17th Street Southwest to the north, 43rd Avenue Southwest to the west, 25th Street Southwest to the south, and 27th Avenue Southwest to the east | None | +20 | Unincorporated Areas of Indian River County.
ML-10 | Within area of multiple ponding areas bounded by 17th Street Southwest to the north, 43rd Avenue Southwest to the west, 25th Street Southwest to the south, and 27th Avenue Southwest to the east | None | +20 | Unincorporated Areas of Indian River County.
ML-11 | Within area of multiple ponding areas bounded by 17th Street Southwest to the north, 43rd Avenue Southwest to the west, 25th Street Southwest to the south, and 27th Avenue Southwest to the east | None | +20 | Unincorporated Areas of Indian River County.
ML-12 | Within area of multiple ponding areas bounded by 17th Street Southwest to the north, 43rd Avenue Southwest to the west, 25th Street Southwest to the south, and 27th Avenue Southwest to the east | None | +20 | Unincorporated Areas of Indian River County.
ML-13 | Within area of multiple ponding areas bounded by 17th Street Southwest to the north, 43rd Avenue Southwest to the west, 25th Street Southwest to the south, and 27th Avenue Southwest to the east | None | +20 | Unincorporated Areas of Indian River County.
ML-14 | Within area of multiple ponding areas bounded by 17th Street Southwest to the north, 43rd Avenue Southwest to the west, 25th Street Southwest to the south, and 27th Avenue Southwest to the east | None | +21 | Unincorporated Areas of Indian River County.
ML-15 | Within area of multiple ponding areas bounded by 17th Street Southwest to the north, 43rd Avenue Southwest to the west, 25th Street Southwest to the south, and 27th Avenue Southwest to the east | None | +22 | Unincorporated Areas of Indian River County.
ML-16 | Within area of multiple ponding areas bounded by 17th Street Southwest to the north, 43rd Avenue Southwest to the west, 25th Street Southwest to the south, and 27th Avenue Southwest to the east | None | +20 | Unincorporated Areas of Indian River County.
ML-17 | Within area of multiple ponding areas bounded by 17th Street Southwest to the north, 43rd Avenue Southwest to the west, 25th Street Southwest to the south, and 27th Avenue Southwest to the east | None | +20 | Unincorporated Areas of Indian River County.
ML-18 | Within area of multiple ponding areas bounded by 17th Street Southwest to the north, 43rd Avenue Southwest to the west, 25th Street Southwest to the south, and 27th Avenue Southwest to the east | None | +20 | Unincorporated Areas of Indian River County.
ML-19 | Within area of multiple ponding areas bounded by 17th Street Southwest to the north, 43rd Avenue Southwest to the west, 25th Street Southwest to the south, and 27th Avenue Southwest to the east | None | +20 | Unincorporated Areas of Indian River County.
ML-20 | Within area of multiple ponding areas bounded by 17th Street Southwest to the north, 43rd Avenue Southwest to the west, 25th Street Southwest to the south, and 27th Avenue Southwest to the east | None | +20 | Unincorporated Areas of Indian River County.
ML-21 | Within area of multiple ponding areas bounded by 17th Street Southwest to the north, 43rd Avenue Southwest to the west, 25th Street Southwest to the south, and 27th Avenue Southwest to the east | None | +21 | Unincorporated Areas of Indian River County.
ML-22 | Within area of multiple ponding areas bounded by 17th Street Southwest to the north, 43rd Avenue Southwest to the west, 25th Street Southwest to the south, and 27th Avenue Southwest to the east | None | +21 | Unincorporated Areas of Indian River County.
ML-23 | Within area of multiple ponding areas bounded by 17th Street Southwest to the north, 43rd Avenue Southwest to the west, 25th Street Southwest to the south, and 27th Avenue Southwest to the east | None | +21 | Unincorporated Areas of Indian River County.
ML-24 | Within area of multiple ponding areas bounded by 17th Street Southwest to the north, 43rd Avenue Southwest to the west, 25th Street Southwest to the south, and 27th Avenue Southwest to the east | None | +20 | Unincorporated Areas of Indian River County.
ML-25 | Within area of multiple ponding areas bounded by 17th Street Southwest to the north, 43rd Avenue Southwest to the west, 25th Street Southwest to the south, and 27th Avenue Southwest to the east | None | +22 | Unincorporated Areas of Indian River County.
ML-26 | Within area of multiple ponding areas bounded by 17th Street Southwest to the north, 43rd Avenue Southwest to the west, 25th Street Southwest to the south, and 27th Avenue Southwest to the east | None | +20 | Unincorporated Areas of Indian River County.
P-1 | Within area of multiple ponding areas bounded by Barber Street to the north and west, 85th Street to the south, and U.S. Route 1 to the east | None | +19 | City of Sebastian.
P-2 | Within area of multiple ponding areas bounded by Barber Street to the north and west, 85th Street to the south, and U.S. Route 1 to the east | None | +18 | City of Sebastian.
P-3 | Within area of multiple ponding areas bounded by Barber Street to the north and west, 85th Street to the south, and U.S. Route 1 to the east | None | +18 | City of Sebastian.
SH-1 | Within area of multiple ponding areas bounded by Main Street to the north and west, and Sebastian Boulevard to the south and east | None | +22 | City of Sebastian.
SH-2 | Within area of multiple ponding areas bounded by Main Street to the north and west, and Sebastian Boulevard to the south and east | None | +22 | City of Sebastian.
SH-3 | Within area of multiple ponding areas bounded by Main Street to the north and west, and Sebastian Boulevard to the south and east | None | +22 | City of Sebastian.
SH-4 | Within area of multiple ponding areas bounded by Main Street to the north and west, and Sebastian Boulevard to the south and east | None | +22 | City of Sebastian.
SH-5 | Within area of multiple ponding areas bounded by Main Street to the north and west, and Sebastian Boulevard to the south and east | None | +22 | City of Sebastian.
SH-6 | Within area of multiple ponding areas bounded by Main Street to the north and west, and Sebastian Boulevard to the south and east | None | +22 | City of Sebastian.
SH-7 | Within area of multiple ponding areas bounded by Main Street to the north and west, and Sebastian Boulevard to the south and east | None | +22 | City of Sebastian.
SH-8 | Within area of multiple ponding areas bounded by Main Street to the north and west, and Sebastian Boulevard to the south and east | None | +21 | City of Sebastian.
SH-9 | Within area of multiple ponding areas bounded by Main Street to the north and west, and Sebastian Boulevard to the south and east | None | +21 | City of Sebastian.
SH-10 | Within area of multiple ponding areas bounded by Main Street to the north and west, and Sebastian Boulevard to the south and east | None | +20 | City of Sebastian.
SH-11 | Within area of multiple ponding areas bounded by Main Street to the north and west, and Sebastian Boulevard to the south and east | None | +21 | City of Sebastian.
SH-12 | Within area of multiple ponding areas bounded by Main Street to the north and west, and Sebastian Boulevard to the south and east | None | +22 | City of Sebastian.
SH-13 | Within area of multiple ponding areas bounded by Main Street to the north and west, and Sebastian Boulevard to the south and east | None | +23 | City of Sebastian.
SL-1 | Within area of multiple ponding areas bounded by Sebastian Boulevard to the north and west, Genesee Avenue to the south, and Laconia Street to the east | None | +21 | City of Sebastian.
SL-5 | Within area of multiple ponding areas bounded by Sebastian Boulevard to the north and west, Genesee Avenue to the south, and Laconia Street to the east | None | +20 | City of Sebastian.
SL-6 | Within area of multiple ponding areas bounded by Sebastian Boulevard to the north and west, Genesee Avenue to the south, and Laconia Street to the east | None | +20 | City of Sebastian.
SL-7 | Within area of multiple ponding areas bounded by Sebastian Boulevard to the north and west, Genesee Avenue to the south, and Laconia Street to the east | None | +20 | City of Sebastian.
SL-8 | Within area of multiple ponding areas bounded by Sebastian Boulevard to the north and west, Genesee Avenue to the south, and Laconia Street to the east | None | +21 | City of Sebastian.
SL-9 | Within area of multiple ponding areas bounded by Sebastian Boulevard to the north and west, Genesee Avenue to the south, and Laconia Street to the east | None | +20 | City of Sebastian.
SL-10 | Within area of multiple ponding areas bounded by Sebastian Boulevard to the north and west, Genesee Avenue to the south, and Laconia Street to the east | None | +20 | City of Sebastian.
SL-11 | Within area of multiple ponding areas bounded by Sebastian Boulevard to the north and west, Genesee Avenue to the south, and Laconia Street to the east | None | +20 | City of Sebastian.
SL-12 | Within area of multiple ponding areas bounded by Sebastian Boulevard to the north and west, Genesee Avenue to the south, and Laconia Street to the east | None | +21 | City of Sebastian.
SL-13 | Within area of multiple ponding areas bounded by Sebastian Boulevard to the north and west, Genesee Avenue to the south, and Laconia Street to the east | None | +20 | City of Sebastian.
SL-14 | Within area of multiple ponding areas bounded by Sebastian Boulevard to the north and west, Genesee Avenue to the south, and Laconia Street to the east | None | +20 | City of Sebastian.
SL-15 | Within area of multiple ponding areas bounded by Sebastian Boulevard to the north and west, Genesee Avenue to the south, and Laconia Street to the east | None | +20 | City of Sebastian.
SL-16 | Within area of multiple ponding areas bounded by Genesee Avenue to the north, Stony Point Drive to the west, and Stonecrop Street to the south and east | None | +14 | City of Sebastian.
SL-17 | Within area of multiple ponding areas bounded by Crystal Mist Avenue to the north, Laconia Street to the west, Concha Drive to the south, and Clearbrook Street to the east | None | +15 | City of Sebastian.
SL-18 | Within area of multiple ponding areas bounded by Benedictine Terrace to the north, Cheltenham Street to the west, Rolling Hill Drive to the south, and Cownie Lane to the east | None | +19 | City of Sebastian.
SL-19 | Within area of multiple ponding areas bounded by Belfast Terrace to the north, Haverford Lane to the west, Browning Terrace to the south, and Coverbrook Lane to the east | None | +20 | City of Sebastian.
Schumann Waterway | Approximately 250 feet downstream of Schumann Drive | None | +15 | City of Sebastian, Unincorporated Areas of Indian River County.
| Approximately 0.7 mile upstream of Schumann Drive | None | +23
Stream 1 | Approximately 207 feet upstream of 14th Street Southwest | None | +22 | Unincorporated Areas of Indian River County.
| Just upstream of 17th Street Southwest | None | +22
Vero Lakes Channel A (Landward of Right Levee) | Just upstream of 85th Street | None | +20 | Unincorporated Areas of Indian River County.
| Approximately 2.7 miles upstream of 85th Street | None | +23
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Sebastian
Maps are available for inspection at City Hall, 1225 Main Street, Sebastian, FL 32958.
Unincorporated Areas of Indian River County
Maps are available for inspection at the Indian River County Administration Building, 1840 25th Street, Vero Beach, FL 32960.
Boone County, Indiana, and Incorporated Areas
Etter Ditch | Approximately 530 feet downstream of Wilson Road | None | +914 | Town of Whitestown, Unincorporated Areas of Boone County.
| Just upstream of Indianapolis Road | None | +928
Fishback Creek | Approximately 0.53 mile downstream of County Road 550 South | None | +897 | City of Lebanon, Town of Whitestown, Unincorporated Areas of Boone County.
| Approximately 0.61 mile upstream of County Road 400 East | None | +949
Green Ditch | At the confluence with Etter Ditch | None | +916 | Town of Whitestown.
| Just upstream of South Cozy Lane | None | +922
Mann Ditch | At the confluence with Prairie Creek | +935 | +932 | City of Lebanon, Unincorporated Areas of Boone County.
| Approximately 0.46 mile upstream of the confluence with Prairie Creek | +935 | +933
Prairie Creek | Approximately 1,320 feet downstream of 221st Street | None | +875 | City of Lebanon, Unincorporated Areas of Boone County.
| Approximately 0.94 mile upstream of Indianapolis Road | +950 | +945
White Lick Creek | Approximately 0.22 mile downstream of County Road 650 South | None | +929 | Town of Whitestown, Unincorporated Areas of Boone County.
| Approximately 0.53 mile upstream of State Road 267 | None | +947
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Lebanon
Maps are available for inspection at the Lebanon Municipal Building, 401 South Meridian Street, Lebanon, IN 46052.
Town of Whitestown
Maps are available for inspection at the Town Hall, 3 South Main Street, Whitestown, IN 46075.
Unincorporated Areas of Boone County
Maps are available for inspection at the Boone County Area Plan Commission, 116 West Washington Street, Lebanon, IN 46052.
Marshall County, Indiana, and Incorporated Areas
Yellow River | At East 4th Road | None | +800 | Unincorporated Areas of Marshall County.
| Approximately 0.57 mile upstream of East 4th Road | None | +800
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Marshall County
Maps are available for inspection at the Marshall County Government Office, 112 West Jefferson Street, Plymouth, IN 46563.
Perry County, Mississippi, and Incorporated Areas
Leaf River | Approximately 0.6 mile downstream of State Highway 15 | None | +89 | Unincorporated Areas of Perry County.
| Approximately 0.5 mile upstream of State Highway 15 | None | +91
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Perry County
Maps are available for inspection at the Perry County Courthouse, 103 1st Street, New Augusta, MS 39462.

(Catalog of Federal Domestic Assistance No. 97.022, “Flood Insurance.”)

Dated: October 15, 2010.
Sandra K. Knight,
Deputy Federal Insurance and Mitigation Administrator, Mitigation, Department of Homeland Security, Federal Emergency Management Agency.

[FR Doc. 2010-27584 Filed 11-1-10; 8:45 am]

BILLING CODE 9110-12-P